DEPARTMENT OF HOMELAND SECURITY

Transportation Security Administration

Extension of Agency Information Collection Activity Under OMB Review: Law Enforcement Officers Safety Act and Retired Badge/Credential

AGENCY: Transportation Security Administration, DHS.

ACTION: 30-Day notice.

SUMMARY: This notice announces that the Transportation Security Administration (TSA) has forwarded the Information Collection Request (ICR), Office of Management and Budget (OMB) control number 1652-0071, abstracted below to OMB for review and approval of an extension of the currently approved collection under the Paperwork Reduction Act (PRA). The ICR describes the nature of the information collection and its expected burden. The collection involves the submission of information from former employees who are interested in a Law Enforcement Officers Safety Act (LEOSA) Identification (ID) Card, a retired badge, and/or a retired credential.

DATES: Send your comments by April 25, 2022. A comment to OMB is most effective if OMB receives it within 30 days of publication.

ADDRESSES: Written comments and recommendations for the proposed information collection should be sent within 30 days of publication of this notice to www.reginfo.gov/public/do/PRAMain. Find this particular information collection by selecting “Currently under Review—Open for Public Comments” and by using the find function.

FOR FURTHER INFORMATION CONTACT: Christina A. Walsh, TSA PRA Officer, Information Technology (IT), TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on January 12, 2022. See 87 FR 1773.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Law Enforcement Officers Safety Act and Retired Badge/Credential.

Type of Request: Extension of a currently approved collection.

OMB Control Number: 1652-0071.

Forms: TSA Form 2825A; TSA Form 2808-R.

Affected Public: Former TSA employees.

Abstract: The Law Enforcement Officers Safety Act (LEOSA) ¹ allows a “qualified retired law enforcement officer” ² to carry a concealed firearm in any jurisdiction in the United States, regardless of State or Local laws, with certain limitations and conditions. The DHS Directive and Instruction Manual 257-01, Law Enforcement Officers Safety Act (December 22, 2017), defines a “qualified law enforcement officer” as applicable to DHS programs and authorities.

¹ Public Law 108-277, 118 Stat. 865, July 22, 2004, codified in 18 U.S.C. 926B and 926C, as amended by the Law Enforcement Officers Safety Act Improvements Act of 2010 (Pub. L. 111-272, 124 Stat. 2855; Oct. 12, 2010) and National Defense Authorization Act for Fiscal Year 2013 (Pub. L. 112-239, 126 Stat. 1970; Jan. 2, 2013).

² As defined in DHS Directive and Instruction Manual 257-01, Law Enforcement Officers Safety Act, (December 22, 2017).

TSA Management Directive (MD) 3500.1, LEOSA Applicability and Eligibility (June 5, 2018), implements the LEOSA statute in accordance with the DHS Directive Under TSA MD 3500.1, TSA issues photographic identification to qualified retired LEOs who separate or retire from TSA in “good standing” and meet other qualification requirements identified in TSA MD 3500.1.

In addition, under TSA MD 2800.11, Badge and Credential Program (Jan. 27, 2014), an employee retiring from Federal service is eligible to receive a “retired badge and/or credential” if the individual: (1) Was issued badge and/or credential during their service with TSA and was authorized to carry the badge/and or credential at the time of their retirement, (2) qualifies for a Federal annuity under the Civil Service Retirement System or the Federal Employees Retirement System, and (3) meets all of the other qualification requirements under the applicable MDs.³

³ These instructions are included in DHS Instruction: 121-01-002 (Issuance and Control of DHS Badges); DHS Instruction 121-01-008 (Issuance and Control of the DHS Credentials); and the associated Handbook for TSA MD 2800.11.

Under TSA's current application process for these two programs, qualified applicants may apply for a LEOSA ID Card, a Retired Badge, and/or a Retired Credential, as applicable, either while still employed by TSA (shortly before separating or retiring) or after they have separated or retired (after they become private citizens, i.e., are no longer employed by the Federal Government).

The LEOSA Identification Card Application (TSA Form 2825A) requires collection of identifying information, contact information, official title, separation date, and last known field office. The Retired Badge and/or Retired Credential Application (TSA Form 2808-R) requires collection of identifying information, contact information, TSA employment/position information (TSA component or Government agency), official title, and entry on duty date.

Number of Respondents: 366.

Estimated Annual Burden Hours: An estimated 54.5 hours annually.

Dated: March 21, 2022.
Christina A. Walsh,
TSA Paperwork Reduction Act Officer, Information Technology.

[FR Doc. 2022-06266 Filed 3-23-22; 8:45 am]

BILLING CODE 9110-05-P